DEPARTMENT OF HOMELAND SECURITY

Federal Emergency Management Agency

44 CFR Part 67

[Docket ID FEMA-2010-0003; Internal Agency Docket No. FEMA-B-1110]

Proposed Flood Elevation Determinations; Correction

AGENCY: Federal Emergency Management Agency, DHS.

ACTION: Proposed rule; correction.

SUMMARY: On April 14, 2010, FEMA published in the Federal Register a proposed rule that included an erroneous name for one of the flooding sources for Franklin County, North Carolina and Incorporated Areas. The flooding source name should have read Taylors Creek instead of Taylors Branch.

DATES: Comments pertaining to Taylors Creek for the location beginning at the confluence with the Tar River to approximately 250 feet upstream of West Green Street are to be submitted on or before October 11, 2012.

ADDRESSES: You may submit comments, identified by Docket No. FEMA-B-1110, to Luis Rodriguez, Chief, Engineering Management Branch, Federal Insurance and Mitigation Administration, Federal Emergency Management Agency, 500 C Street SW., Washington, DC 20472, (202) 646-4064 or (email) luis.rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) luis.rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 19320, in the April 14, 2010, issue of the Federal Register, FEMA published a table under the authority of 44 CFR 67.4. The table, entitled “Franklin County, North Carolina, and Incorporated Areas” addressed several flooding sources, including Taylors Creek. The proposed rule incorrectly listed the flooding source name as Taylors Branch instead of Taylors Creek. This proposed rule correction is reopening the comment period for Taylors Creek, from the confluence with the Tar River to approximately 250 feet upstream of West Green Street, due to the error in the flooding source name previously published proposed rule at 75 FR 19320.

(Catalog of Federal Domestic Assistance No. 97.022, “Flood Insurance.”)

Dated: September 3, 2012.
Sandra K. Knight,
Deputy Associate Administrator for Mitigation, Department of Homeland Security, Federal Emergency Management Agency.

[FR Doc. 2012-22299 Filed 9-10-12; 8:45 am]

BILLING CODE 9110-12-P